DEPARTMENT OF ENERGY

Federal Energy Regulatory Commission

Notice of Amendment of Licenses and Solicitation of Comments, Motions To Intervene, and Protests

August 8, 2002.

Take notice that the following hydroelectric application has been filed with the Commission and is available for public inspection:

a. Application Type: Conveyance of Project Lands and Change in Land Rights.

b. Project Nos.: 2300-030, 2311-039, 2326-026, 2327-027, 2422-030, and 2423-016.

c. Date Filed: June 27, 2002.

d. Applicants: American Tissue—New Hampshire Electric, Inc. (Current licensee) and GNE, LLC (Transferee).

e. Name of Projects: Shelburne, Gorham, Cross Power, Cascade, Sawmill, and Riverside.

f. Location: All of the projects are located on the Androscoggin River in Coos County, New Hampshire. The projects do not utilize federal or tribal lands.

g. Filed Pursuant to: Federal Power Act, 16 U.S.C. 791(a)-825(r)).

h. Applicants Contacts: Amy S. Koch and Judith Andrade, Cameron McKenna LLP, 2175 K Street, NW., Fifth Floor, Washington, DC 20037, (202) 466-0060, and Jeff Martin, GNE, LLC, 1024 Central Street, Millinocket, ME 04462, (207) 723-4341 (for GNE).

i. FERC Contact: Any questions on this notice should be addressed to Mrs. Heather Campbell at (202) 219-3097, or e-mail address: heather.campbell@ferc.gov.

j. Deadline for filing comments and or motions: September 13, 2002.

All documents (original and eight copies) should be filed with: Magalie R. Salas, Secretary, Federal Energy Regulatory Commission, 888 First Street, NE., Washington, DC 20426. Comments, protests, and interventions may be filed electronically via the internet in lieu of paper. See, 18 CFR 385.2001(a)(1)(iii) and the instructions on the Commission's Web site under the “e-Filing” link.

Please include the Project Number (2300-030, et al.) on any comments or motions filed.

k. Description of Filing: The licensee and transferee of the above projects have filed a request for approval to transfer certain portions of the Androscoggin riverbed and banks to the State of New Hampshire. The transferee would retain all rights to operate and maintain the projects as licensed.

l. Location of the Application: This filing is available for review at the Commission in the Public Reference Room or may be viewed on the Commission's Web site at http://www.ferc.gov using the “FERRIS” link. Enter the docket number excluding the last three digits in the docket number field to access the document. For assistance, call (202) 502-8222 or for TTY, (202) 208-1659.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, 214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Project Number of the particular application to which the filing refers. A copy of any motion to intervene must also be served upon each representative of the Applicant specified in the particular application.

p. Agency Comments—Federal, state, and local agencies are invited to file comments on the described application. A copy of the application may be obtained by agencies directly from the Applicant. If an agency does not file comments within the time specified for filing comments, it will be presumed to have no comments. One copy of an agency's comments must also be sent to the Applicant's representatives.

Linwood A. Watson, Jr.,
Deputy Secretary.

[FR Doc. 02-20532 Filed 8-13-02; 8:45 am]

BILLING CODE 6717-01-P